DEPARTMENT OF ENERGY

Federal Energy Regulatory Commission

[Docket No. AC21-147-000]

Louisville Gas and Electric Company; Kentucky Utilities Company; Notice of Filing

Take notice that on July 16, 2021, Louisville Gas and Electric Company and Kentucky Utilities Company (“Companies”) requested approval to treat the deployment of their Advanced Metering Infrastructure (AMI) program as a single project for purposes of in service and accrual of Allowance for Funds Used During Construction (“AFUDC”) and requested permission to record the remaining net book value of the Companies' legacy meters in Account 182.2—Unrecovered plant and regulatory study costs, upon the full deployment of AMI. Applicants state that their request will indirectly impact FERC-jurisdictional formula rates due to the use of plant allocators.

Any person desiring to intervene or to protest this filing must file in accordance with Rules 211 and 214 of the Federal Energy Regulatory Commission's (Commission) Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. Anyone filing a motion to intervene or protest must serve a copy of that document on the Petitioner.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern time on August 2, 2021.

Dated: July 22, 2021.
Debbie-Anne A. Reese,
Deputy Secretary.

[FR Doc. 2021-16066 Filed 7-27-21; 8:45 am]

BILLING CODE 6717-01-P